DEPARTMENT OF TRANSPORTATION

Federal Aviation Administration

14 CFR Part 39

[Docket No. FAA-2006-26725; Directorate Identifier 2006-NM-161-AD; Amendment 39-15000; AD 2007-06-19]

RIN 2120-AA64

Airworthiness Directives; Bombardier Model DHC-8-102, -103, and -106 Airplanes and Model DHC-8-200 and DHC-8-300 Series Airplanes

AGENCY: Federal Aviation Administration (FAA), Department of Transportation (DOT).

ACTION: Final rule.

SUMMARY: The FAA is adopting a new airworthiness directive (AD) for certain Bombardier Model DHC-8-102, -103, and -106 airplanes and Model DHC-8-200 and DHC-8-300 series airplanes. This AD requires modifying the main landing gear (MLG) and nose landing gear (NLG) handle assemblies for alternate release and the MLG retaining plate. This AD also requires doing a related investigative action and corrective action if necessary. This AD results from reports of broken or damaged MLG and NLG alternate release cables caused by rubbing and fraying at the cable-to-handle interface. We are issuing this AD to prevent breakage of the MLG and NLG alternate release cables, which, if the normal gear extension fails, could result in the inability to extend the MLG or NLG and consequent collapse of the landing gear during ground maneuvers or upon landing.

DATES: This AD becomes effective April 27, 2007.

The Director of the Federal Register approved the incorporation by reference of a certain publication listed in the AD as of April 27, 2007.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Ezra Sasson, Aerospace Engineer, Systems and Flight Test Branch, ANE-172, FAA, New York Aircraft Certification Office, 1600 Stewart Avenue, Suite 410, Westbury, New York 11590; telephone (516) 228-7320; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-102, -103, and -106 airplanes and Model DHC-8-200 and DHC-8-300 series airplanes. That NPRM was published in the Federal Register on January 8, 2007 (72 FR 662). That NPRM proposed to require modifying the main landing gear (MLG) and nose landing gear handle assemblies for alternate release and the MLG retaining plate. That NPRM also proposed to require doing a related investigative action and corrective action if necessary.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Cost per airplane | Number of U.S.-registered airplanes | Fleet cost
Modification | 5 | $80 | $400 | 164 | $65,600

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-06-19 Bombardier, Inc. (Formerly de Havilland, Inc.): Amendment 39-15000. Docket No. FAA-2006-26725; Directorate Identifier 2006-NM-161-AD.

Effective Date

(a) This AD becomes effective April 27, 2007.

Affected ADs

(b) None.

Applicability

(c) This AD applies to Bombardier Model DHC-8-102, DHC-8-103, and DHC-8-106 airplanes and Model DHC-8-200 and DHC-8-300 series airplanes; certificated in any category; serial numbers 003 through 579 inclusive.

Unsafe Condition

(d) This AD results from reports of broken or damaged main landing gear (MLG) and nose landing gear (NLG) alternate release cables caused by rubbing and fraying at the cable-to-handle interface. We are issuing this AD to prevent breakage of the MLG and NLG alternate release cables, which, if the normal gear extension fails, could result in the inability to extend the MLG or NLG and consequent collapse of the landing gear during ground maneuvers or upon landing.

Compliance

(e) You are responsible for having the actions required by this AD performed within the compliance times specified, unless the actions have already been done.

Modification

(f) Within 3,000 flight hours after the effective date of this AD, modify the MLG and NLG handle assemblies for alternate release and the MLG retaining plate, do the related investigative action, and the corrective action as applicable, by accomplishing all the applicable actions specified in the Accomplishment Instructions of Bombardier Service Bulletin 8-32-146, Revision ‘D,’ dated February 7, 2003. Do the corrective action, as applicable, before further flight.

Actions Accomplished According to Previous Issue of Service Bulletin

(g) Actions accomplished before the effective date of this AD in accordance with Bombardier Service Bulletin 8-32-146, dated September 10, 1999; Revision ‘A,’ dated January 17, 2001; Revision ‘B,’ dated June 25, 2001; or Revision ‘C,’ dated January 24, 2003; are considered acceptable for compliance with the corresponding action specified in this AD.

Parts Installation

(h) As of the effective date of this AD, no person may install any part specified in paragraphs (h)(1), (h)(2), and (h)(3) of this AD, on any airplane.

(1) MLG handle assembly, part number (P/N) 83260042.

(2) NLG handle assembly, P/N 83260020.

(3) MLG retaining plate, P/N 83260043.

Alternative Methods of Compliance (AMOCs)

(i)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2006-09, issued May 8, 2006, also addresses the subject of this AD.

Material Incorporated by Reference

(k) You must use Bombardier Service Bulletin 8-32-146, Revision ‘D,’ dated February 7, 2003, to perform the actions that are required by this AD, unless the AD specifies otherwise. The Director of the Federal Register approved the incorporation by reference of this document in accordance with 5 U.S.C. 552(a) and 1 CFR part 51. Contact Bombardier, Inc., Bombardier Regional Aircraft Division, 123 Garratt Boulevard, Downsview, Ontario M3K 1Y5, Canada, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 13, 2007.
Ali Bahrami,
Manager, Transport Airplane Directorate, Aircraft Certification Service.

[FR Doc. E7-5217 Filed 3-22-07; 8:45 am]

BILLING CODE 4910-13-P